DEPARTMENT OF COMMERCE

National Oceanic and Atmospheric Administration

RIN 0648-XV147

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of the Southern Resident Killer Whale Workgroup (Workgroup).

DATES: The meeting will be held Wednesday, January 8 through Thursday, January 9, 2020. The meeting will be held from 10 a.m. to 5 p.m., Pacific Standard Time (PST) on January 8. The meeting will continue on January 9 at 9 a.m. (PST) and will end at 2 p.m. The meeting times are an estimate; the meetings will adjourn when business for the day is complete.

ADDRESSES: The meeting will be held in the Cedars Room, Embassy Suites by Hilton Portland Airport Hotel, 7900 NE 82nd Avenue, Portland, OR 97220; telephone: (503) 460-3000.

Council address: Pacific Fishery Management Council, 7700 NE Ambassador Place, Suite 101, Portland, OR 97220-1384.

FOR FURTHER INFORMATION CONTACT: Ms. Robin Ehlke, Pacific Council; telephone: (503) 820-2410.

SUPPLEMENTARY INFORMATION: The purpose of the meeting is to discuss data needs, document development, work plans, and progress made on assigned tasks. The Workgroup may also discuss and prepare for future Workgroup and Pacific Council meetings. This is a public meeting and not a public hearing. Public comments will be taken at the discretion of the Workgroup co-chairs as time allows.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (kris.kleinschmidt@noaa.gov, (503) 820-2412) at least 10 days prior to the meeting date.

Authority: 16 U.S.C. 1801 et seq.

Dated: December 5, 2019.
Tracey L. Thompson,
Acting Deputy Director, Office of Sustainable Fisheries, National Marine Fisheries Service.

[FR Doc. 2019-26592 Filed 12-9-19; 8:45 am]

BILLING CODE 3510-22-P